DEPARTMENT OF COMMERCE

National Oceanic and Atmospheric Administration

[I.D. 031105F]

Taking of Marine Mammals Incidental to Commercial Fishing Operations; Atlantic Large Whale Take Reduction Plan Regulations; Public Hearings

AGENCY: National Marine Fisheries Service (NMFS), National Oceanic and Atmospheric Administration (NOAA), Commerce.

ACTION: Notice of public hearing.

SUMMARY: On March 14, 2005, NMFS announced its intent to hold 12 public hearings in Maine, Massachusetts, Rhode Island, New Jersey, Maryland, Virginia, North Carolina, and Florida in March and April 2005 for the purpose of answering questions and receiving public testimony on the Atlantic Large Whale Take Reduction Plan (ALWTRP) draft environmental impact statement (DEIS). NMFS will hold an additional public hearing in East Machias, Maine in April 2005.

DATES: See SUPPLEMENTARY INFORMATION under the heading “Hearing Dates, Times, and Locations” for the dates and locations of the public hearings.

FOR FURTHER INFORMATION CONTACT: Diane Borggaard, NMFS, Northeast Region, 978-281-9300 ext. 6503; Barb Zoodsma, NMFS, Southeast Region, 904-321-2806; or Kristy Long, NMFS, Office of Protected Resources, 301-713-2322.

SUPPLEMENTARY INFORMATION: On February 25, 2005, the Environmental Protection Agency (EPA) published a Notice of Availability in the Federal Register announcing the availability of the DEIS for public review and comment. The DEIS is open for public comment from February 25, 2005 to April 26, 2005. The public has the opportunity to submit comments on the document by any one of the following methods:

(1) NMFS/Northeast Region Website: http://www.nero.noaa.gov/nero/regs/com. Follow the instructions on the website for submitting comments.

(2) E-mail: whaledeis.comments@noaa.gov.

(3) Mail: Mary Colligan, Assistant Regional Administrator for Protected Resources, NMFS, Northeast Region, 1 Blackburn Dr., Gloucester, MA 01930, ATTN: ALWTRP DEIS.

(4) Facsimile (fax) to: 978-281-9394, ATTN: ALWTRP DEIS.

(5) Public hearings: submit oral comments at one of the DEIS public hearings.

NMFS has scheduled another public hearing on the DEIS in addition to the 12 already announced (70 FR 12446, March 14, 2005). The purpose of these hearings is to provide an opportunity for the public to ask questions on the DEIS, as well as to submit formal oral testimony on the document during the comment period. Information on the public hearings can also be found on the Atlantic Large Whale Take Reduction Plan (ALWTRP) website at http://www.nero.noaa.gov/whaletrp/.

Hearing Dates, Times, and Locations

The date, time, and location of the hearing is as follows:

Wednesday, April 6, 2005 - East Machias, ME - 6-9 p.m.—Washington Academy (Gardner Gym), One High Street, East Machias, ME 04630

Special Accommodations

These hearings are physically accessible to people with disabilities. Requests for sign language interpretation or other auxiliary aids should be directed to Diane Borggaard at 978-281-9300 ext. 6503 at least 7 working days prior to the hearing date.

Dated: March 17, 2005.
Donna S. Weiting,
Deputy Director, Office of Protected Resources, National Marine Fisheries Service.

[FR Doc. 05-5751 Filed 3-22-05; 8:45 am]

BILLING CODE 3510-22-S